NUCLEAR REGULATORY COMMISSION

10 CFR Part 51

[NRC-2020-0101]

RIN 3150-AK55

Generic Environmental Impact Statement for Licensing of New Nuclear Reactors

Correction

In proposed rule document 2024-22385, appearing on pages 80797 through 80827 in the issue of Friday, October 4, 2024, make the following corrections:

1. On page 80798, in the first column, in the fifth paragraph, on the second through fourth lines, “Final supplemental environmental impact statement relying on Appendix C to Subpart A” should read “Final supplemental environmental impact statement relying on a generic environmental impact statement for licensing new nuclear reactors.”.

2. On page 80808, in the second column, in the fourth paragraph from the bottom of the page, on the first through third lines, “Final Supplemental Environmental Impact Statement Relying on Appendix C to Subpart A” should read “Final supplemental environmental impact statement relying on a generic environmental impact statement for licensing new nuclear reactors.”.

[FR Doc. C1-2024-22385 Filed 10-16-24; 8:45 am]

BILLING CODE 0099-10-D